NATIONAL AERONAUTICS AND SPACE ADMINISTRATION

[Notice: (10-115)]

NASA Advisory Council; Science Committee; Earth Science Subcommittee; Applied Sciences Advisory Group Meeting

AGENCY: National Aeronautics and Space Administration.

ACTION: Notice of meeting.

SUMMARY: In accordance with the Federal Advisory Committee Act, Public Law 92-463, as amended, the National Aeronautics and Space Administration (NASA) announces a meeting of the Applied Science Advisory Group. This Subcommittee reports to the Earth Science Subcommittee Committee of the NASA Advisory Council. The Meeting will be held for the purpose of soliciting from the scientific community and other persons scientific and technical information relevant to program planning.

DATES: Thursday October 21, 2010, 8:30 a.m. to 5 p.m., and Friday, October 22, 2010, 8:30 a.m. to 1 p.m. Local Time.

ADDRESSES: NASA Headquarters, 300 E Street, SW., Room 7H45-A and 3H46-A, respectively, Washington, DC 20546.

FOR FURTHER INFORMATION CONTACT: Mr. Peter Meister, Science Mission Directorate, NASA Headquarters, Washington, DC 20546, (202) 358-1557, fax (202) 358-4118, or peter.g.meister@nasa.gov.

SUPPLEMENTARY INFORMATION: The meeting will be open to the public up to the capacity of the room. The agenda for the meeting includes the following topics:

—Applied Sciences Program Update.

—Performance Measures Discussion.

—Report from Earth Science Subcommittee Meeting.

It is imperative that the meeting be held on these dates to accommodate the scheduling priorities of the key participants. Attendees will be requested to sign a register and to comply with NASA security requirements, including the presentation of a valid picture ID, before receiving an access badge. Foreign nationals attending this meeting will be required to provide a copy of their passport, visa, or green card in addition to providing the following information no less than 10 working days prior to the meeting: full name; gender; date/place of birth; citizenship; visa/green card information (number, type, expiration date); passport information (number, country, expiration date); employer/affiliation information (name of institution, address, country, telephone); title/position of attendee. To expedite admittance, attendees with U.S. citizenship can provide identifying information 3 working days in advance by contacting Peter Meister via e-mail at peter.g.meister@nasa.gov or by telephone at (202) 358-1557.

Dated: September 24, 2010.
P. Diane Rausch,
Advisory Committee Management Officer, National Aeronautics and Space Administration.

[FR Doc. 2010-24485 Filed 9-29-10; 8:45 am]

BILLING CODE 7510-13-P